DEPARTMENT OF AGRICULTURE

Submission for OMB Review; Comment Request

September 5, 2001.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Cooperative State Research, Education, and Extension Service

Title: Grant Application Forms for the Small Business Innovation Research Grants Program.

OMB Control Number: 0524-0025.

Summary of Collection: In 1982, the Small Business Innovation Research (SBIR) Grants Program was authorized by Public Law 97-219, and in 2000, reauthorized through September 30, 2008, by Public Law 106-564. This legislation requires each Federal agency with a research and development budget in excess of $100 million to establish an SBIR program. the objections of the U.S. Department of Agriculture (USDA), Cooperative State Research, Education, and Extension Service (CSREES), SBIR Program are to stimulate technological innovation in the private sector, strengthen the role of small businesses in meeting Federal research and development needs, increase private sector commercialization of innovations derived for USDA-supported research and developments efforts, and foster and encourage participation by women-owned and socially and economically disadvantaged small business firm in technological innovation. USDA conducts its SBIR Program through the use of grants awards and the Grants Management Branch, CSREES, administers these grants. Each year, USDA issues an SBIR Program Solicitation requesting Phase I proposals. These proposals are evaluated by peer review panels and awarded on a competitive basis. The SBIR Program Solicitation requests that applicants submit proposals following the format outlined in the SBA Policy Directive.

Need and Use of the Information: CSREES uses forms CSREES-667, “Proposal Cover Sheet” and CSREES-668, “Project Summary,” to collect recordkeeping data, required certification, and information used to respond to inquiries from Congress, other Government agencies, and the grantee community concerning grant projects supported by the USDA SBIR Program.

Description of Respondents: Business or other for-profit; Individuals or households.

Number of Respondents: 480.

Frequency of Responses: Reporting: On occasion.

Total Burden Hours: 2,472.

National Agricultural Statistics Service

Title: Milk and Milk Products.

OMB Control Number: 0535-0020.

Summary of Collection: U.S. Code Title 7, Section 2204, statute specifies that “The Secretary of Agriculture shall procure and preserve all information concerning agriculture which he can obtain* * *by the collection of statistics* * *and shall distribute them among agriculturists”. The National Agricultural Statistics Service's (NASS) primary function is to prepare and issue current official state and national estimates of crop and livestock production. Estimates of milk production and manufactured dairy products are an integral part of this program. Statistics on milk production and manufactured dairy products are used by the U.S. Department of Agriculture (USDA) to carry out the National Dairy Support Program.

Need and Use of the Information: Milk and dairy statistics are used by USDA to help administer price support programs and by the dairy industry in planning, pricing, and projecting supplies of milk and milk products. Dairy products prices are collected weekly to meet the time requirements for the announcement of milk price supports under the Federal Order Program. Estimates of number of total milk production are used by the dairy industry in planning, pricing, and projecting supplies of milk and milk products. Collecting data less frequently would prevent USDA and the agricultural industry from keeping abreast of changes at the state and national level.

Description of Respondents: Farms; Business or other for-profit.

Number of Respondents: 44,689.

Frequency of Responses: Reporting: Quarterly; Weekly; Monthly; Annually; Other biweekly.

Total Burden Hours: 24,223.

Farm Service Agency

Title: Application for Payment of Amounts Due Persons Who Have Died, Disappeared or Have Been Declared Incompetent.

OMB Control Number: 0560-0026.

Summary of Collection: Representatives or survivors of producers who die, disappear, or are declared incompetent must be afforded a method of obtaining any payment intended for the producer. 7 CFR part 707 provides that form FSA-325 be used as the form of application for persons desiring to claim such payments. The information collected is necessary to determine whether representatives or survivors of a producer are entitled to receive payments earned by a producer who dies, disappears, or is declared incompetent before receiving the payment.

Need and Use of the Information: FSA will collect information using form FSA-325 to determine if the survivors have rights to the existing payments. The information will also help FSA determine if the survivors have rights to the unpaid portions of the producer's payments.

Description of Respondents: Individuals or households; Business or other for-profit; Not-for-profit institution; State, Local or Tribal Government.

Number of Respondents: 4,000.

Frequency of Responses: Reporting: Other (when necessary).

Total Burden Hours: 6,000.

Farm Service Agency

Title: Warehouse Regulations Under USWA and Standards for Approval of Warehouses.

OMB Control Number: 0560-0120.

Summary of Collection: Section 4 of the United States Warehouse Act (USWA) (7 U.S.C. 244) states “That the Secretary of Agriculture, or his designated representative, is authorized, upon application to him, to issue to any warehouseman a license for the conduct of a warehouse or warehouses in accordance with this Act and such rules and regulations and may be hereunder: Provided, that each such warehouse be found suitable for the proper storage of the particular agricultural product or products for which a license is applied for, and that such warehousemen agree, as a condition to the granting of the license, to comply with and abide by all the terms of this Act and the rules and regulations prescribed hereunder.” The Farm Service Agency (FSA) administers the USWA. Although there are several warehouse types covered under the USWA, the reporting requirements within a particular warehouse type are essentially the same as those across all warehouse types and, with some exceptions, the forms are used bilaterally; that is, they are used for both USWA licensing and Commodity Credit Corporation purposes. The forms are furnished to interested warehouse operators or used by the warehouse examiners employed by FSA to secure and record information about the warehouse operators and the warehouse.

Need and Use of the Information: FSA will collect information (1) to determine whether or not the warehouse and the warehouse operator making application for licensing and/or approval meets applicable standards; (2) to issue such license or approvals; (3) to determine, once licensed or approved, that the licensee or warehouse operator continues to meet such standards and is conforming to regulatory or contractual obligations, (4) to determine that the stored commodity is in good condition and (5) to determine that the licensee or warehouse operator is storing the commodity for which licensed or approval in a safe and prudent manner.

Description of Respondents: Business or other for-profit

Number of Respondents: 4,600.

Frequency of Responses: Recordkeeping; Reporting: On occasion; Annually; Other (daily record)

Total Burden Hours: 14,701.

Farm Service Agency

Title: 7 CFR 1924-B Management Advice to Individuals Borrowers and Applicants.

OMB Control Number: 0560-0154.

Summary of Collection: The Consolidated Farm and Rural Development Act (CONACT) as amended, authorizes the Secretary of Agricultural to make and service direct farm loans to eligible applicants. The collection of information is needed to develop sound farm loan assessments, provide appropriate credit counseling and credit supervision that will assist the Agency's customers toward successful farming/ranching operations. The Farm Service Agency will collect information using several FSA forms.

Need and Use of the Information: FSA will collect information to protect the government's financial interests by ensuring the farming operations of the Agency's direct loan customers be properly assessed for short and long-term financial feasibility. The information is also used to ensure all customers receive appropriate credit counseling and credit supervision to ensure the greatest chance for financial and productive success. If the information were not collected the Agency would be unable to meet the mission of the loan program mandated by Congress.

Description of Respondents: Farm; Business or other-for-profit; Federal Government; Not-for-profit institutions

Number of Respondents: 63,125.

Frequency of Responses: Reporting: On occasion.

Total Burden Hours: 157,646.

Risk Management Agency

Title: Multiple Peril Crop Insurance.

OMB Control Number: 0563-0053.

Summary of Collection: Previous amendments to the Federal Crop Insurance Act have expanded the role of the crop insurance program to be the principal tool for risk management by producers of farm products and provided for nationwide expansion of a comprehensive crop insurance program. In June of 2000, the ACT was amended again by Public Law 106-224 mandating changes to crop insurance regulations, providing for independent review of crop insurance products by person experienced as actuaries and in underwriting, giving contracting authority for the development of new products, and requiring that the crop insurance program operate on an actuarially sound basis. To meet the goals, existing crop programs must be improved and expanded, new crop products developed, and new insurance concepts studied for possible implementation.

Need and Use of the Information: Federal Crop Insurance Corporation (FCIC) offers a Standard Reinsurance Agreement to eligible crop insurance companies under which FCIC will use data elements instead of standards forms. The information collected may be used by Federal agencies, Risk Management Agency, crop insurance companies reinsured by FCIC, and other agencies that require such information in the performance of their duties. If the information were not collected by specified dates, the producers may not have insurance coverage or the amount of insurance may be reduced and the crop insurance program would not be administered in an actuarially sound manner.

Description of Respondents: Farms; Business or other for-profit.

Number of Respondents: 1,304,390.

Frequency of Response: Recordkeeping; Reporting: Other.

Total Burden Hours: 1,194,316.

Rural Business-Cooperative Service

Title: Value-Added Agricultural Product market Development Grant Program (Independent Producers).

OMB Control Number: 0570-0039.

Summary of Collection: The Rural business-Cooperative Service (RBS) an agency within the USDA Rural Development mission area will administer the Value-Added Agricultural Product Market Development Grant Agreement Program. The objective of this program is to encourage producers of agricultural commodities and products of agricultural commodities to further refine these products increasing their value to end users of the product. These grants will be used for two purposes: (1) to fund feasibility studies, marketing and business plans, and similar development activities; and (2) to use the grant as part of the venture's working capital fund. Grants will only be awarded if projects or ventures are determined to be economically viable and sustainable.

Need and Use of the Information: RBS will use the information collected to determine (1) applicant eligibility and monitor recipient performance; (2) the specific purpose for which the funds will be utilized; (3) time frames or dates by which activities surrounding the use of funds will be accomplished; (4) feasibility of the project; (5) applicants' experience in managing similar activities; and (6) the effectiveness and innovation used to address critical issues vital to value-added ventures development and sustainability. Without this information there would be no basis on which to ward funds.

Description of Respondents: Business or other for-profit.

Number of Respondents: 120.

Frequency of Responses: Recordkeeping; Reporting: On occasion.

Total Burden Hours: 2460.

Rural Business-Cooperative Service

Title: Value-Added Agricultural Product Market Development Grant Program (Resource Center).

OMB Control Number: 0570-0040.

Summary of Collection: The Rural Business-Cooperative Service (RBS) was established by Public Law 103-354, The Department of Agriculture Reorganization Act of 1994. The mission of RBS is to improve the quality of life in rural America by financing community facilities and businesses, providing technical assistance and creating effective strategies for rural development. The objective of this program is to establish a pilot project to be known as the Agricultural Marketing Resource Center. This center will have the capabilities, including electronic capabilities, to collect, disseminate, coordinate, and provide information on value-added processing to independent producers and processors of value-added agricultural commodities and products of agricultural commodities. Funds will be awarded on a competitive basis using specific selection criteria and in amounts up to 50 percent of the costs for carrying out the proposed uses.

Need and Use of the Information: RBS will use the information collected to determine (1) eligibility; (2) the specific purpose for which the funds will be utilized; (3) time frames or dates by which activities surrounding the use of funds will be accomplished; (4) feasibility of the project; (5) applicants' experience in managing similar activities; and (6) the effectiveness and innovation used to address critical issues vital to value-added ventures development and sustainability. Without this ifnormation there would be no basis on which to award funds.

Description of Respondents: Business or other for-profit.

Number of Respondents: 40.

Frequency of Responses: Recordkeeping; Reporting: Semi-annually.

Total Burden Hours: 628.

Rural Utilities Service

Title: Report of Compliance and Participation.

OMB Control Number: 0572-0047.

Summary of Collection: The Rural Utilities Service (RUS) is required to implement regulations of the U.S. Department of Justice and the U.S. Department of Agriculture and to provide for the collection of civil rights data and information from applicants for and recipients of Federal assistance sufficient to permit effective enforcement of Title VI of the Civil Rights Act of 1964, section 504 of the Rehabilitation Act of 1973, and the Age Discrimination Act of 1975 (Acts). Rus Form 268, Report of Compliance and Participation, is designed for use by RUS electric and telephone borrowers in complying with the reporting requirements outlined in RUS Bulletin 1790-1, “Nondiscrimination Among Beneficiaries of RUS Programs.” This guidance bulletin describes the statutes, rules, and regulations, which inform RUS borrowers of their responsibilities for ensuring nondiscrimination practices in the operation of their organizations.

Need and Use of the Information: RUS will collect information to determine the extent to which the borrowers are in compliance with requirements of the Acts, to identify potential problem compliance areas, and to determine a borrower's eligibility for advance of loan funds. If this form is not submitted, RUS would have no method of ensuring borrower compliance with requirements of the Acts.

Description of Respondents: Not-for-profit institutions; Business or other for-profit.

Number of Respondents: 1,500.

Frequency of Responses: Reporting: Annually.

Total Burden Hours: 1,005.

Rural Utilities Service

Title: Weather Radio Transmitter Grant Program.

OMB Control Number: 0572-0124.

Summary of Collection: The National Weather Service operates an All Hazards Early Warning System that alerts people in areas covered by its transmissions of approaching dangerous weather and other emergencies. The National Weather Service can typically provide warnings of specific weather dangers up to fifteen minutes prior to the event. At present, this system covers all major metropolitan areas and many smaller cities and towns; however, many rural areas lack National Oceanic and Atmospheric Administration's Weather Radio and Alert System (NOAA) Weather Radio coverage. The Weather Radio Transmitter Grant Program will provide grant funds, for use in rural areas and communities of 50,000 or less inhabitants. The grant funds will be processed on a first-come basis until the appropriation is used in its entirety.

Need and Use of the Information: The Rural Utilities Service (RUS) will use the information from the submission to determine the following: (1) That adequate coverage in the area does not already exist and that the proposed coverage will meet the needs of the community; (2) that design requirements are met; and (3) that the funds needed to complete the project are adequate based on the grant and the matching portion from the applicant.

Description of Respondents: Not for-profit institutions; State, Local or Tribal Government.

Number of Respondents: 60.

Frequency of Responses: Reporting: On occasion.

Total Burden Hours: 345.

Rural Utilities Service

Title: 7 CFR part 1744, Subpart B, Lien Accommodations and Subordination Policy.

OMB Control Number: 0572-NEW.

Summary of Collection: The Rural Utilities Service (RUS) is a credit agency of the U.S. Department of Agriculture (USDA). It makes mortgage loans and loan guarantees to finance electric, telecommunications, and water and waste facilities in rural areas. The Telecommunications Act of 1996 mandates that universally available and affordable telecommunications services, including advanced services, be made available to all U.S. citizens whether in rural areas or city centers, affluent, or poor communities. In support of this mandate, RUS is amending its regulation to ensure that, with the assistance of advanced telecommunications technology, rural citizens be provided the same economic, educational, and health care benefits available in the large metropolitan areas.

Need and Use of the Information: This regulation will help RUS facilitate funding from non-RUS sources in order to meet the growing capital needs of rural Local Exchange Carriers and enable the providers to compete in an expanding number of telecommunications services. RUS will use the information to provide “automatic” approval for borrowers requesting lien accommodations that meet the required financial tests. These tests are designed to ensure that the financial strength of the borrower is more than sufficient to protect the government's loan security interests; hence, the lien accommodations will not adversely affect the government's financial interests.

Description of Respondents: Business or other for-profit; Not-for-profit institutions.

Number of Respondents: 30.

Frequency of Responses: Reporting: On occasion.

Total Burden Hours: 23.

Rural Housing Service

Title: Form RD 1940-59, Settlement Statement.

OMB Control Number: 0575-0088.

Summary of Collection: The Rural Housing Service (RHS) and the Farm Service Agency (FSA) are requesting an extension of the OMB clearance for Form RD 1940-59, “Settlement Statement.” The Real Estate Settlement Procedures Act (RESPA), as amended, requires the disclosure of real estate settlement costs to real estate buyers and sellers. Disclosure of the nature and costs of a mortgage transaction enables the borrower to be a more informed customer and protects the public from unnecessarily high settlement charges.

Need and Use of the Information: Form RD 1940-49 is completed by Settlement Agents, Closing Attorneys, and Title Insurance Companies performing the closing of RHS loans and credit sales use to purchase or refinance Section 502 Housing, Rural Rental Housing, and Farm Laboring Housing. The same parties performing the closing of FSA Farm Ownership loans and credit sales complete the form. The information is collected to provide the buyer and the seller with a statement detailing the actual costs of the settlement services involved in certain Agency financed real estate transactions. Failure to collect the information and disclose the information would be a violation of the RESPA.

Description of Respondents: Business or for-profit.

Number of Respondents: 17,000.

Frequency of Responses: Reporting: On occasion.

Total Burden Hours: 28,900.

Rural Housing Service

Title: 7 CFR 1951-N, Servicing Cases Where Unauthorized Loan or Other Financial assistance was received—Multiple Family Housing.

OMB Control Number: 0575-0104.

Summary of Collection: Through regular visits by Rural Development personnel and the Office of Inspector General cases of unauthorized assistance were identified. Unauthorized assistance may in the form of a loan, grant, interest subsidy benefit created through use of an incorrect interest rate, interest credits or rental assistance extended to a Multi-Family Housing borrower or grantee by Rural Housing Service (RHS). RHS has published its own regulation, consistent with the Federal Claims Act, through which it can better assist the recipients of RHS assistance and still adequately protect the Government's interest. The information collected under the provisions of this regulation is provided on a voluntary basis by the recipient of the assistance in question, although failure to cooperate in effecting requiring corrections to loan accounts may result in loss or reduction of benefits or liquidation of the loan. The information collected will primarily be financial data relating to income and expenses. Also, tenants who refuse to cooperate or provide information may lose their subsidy or tenancy.

Need and Use of the Information: The information required by this regulation is collected from Multi-Family Housing borrowers (who may be individuals, partnerships, private or nonprofit corporations or public bodies) and from tenants who reside in the borrower's rental projects. The collections are made from RHS borrowers on an individual case. If this regulation is not continued, the cases involving unauthorized financial assistance would remain unresolved and many borrowers would keep financial benefits for which they did not qualify under RHS loan regulations.

Description of Respondents: Individuals or households; Business or other for-profit; Not-for-profit institutions; Farms; State, Local or Tribal Government.

Number of Respondents: 450.

Frequency of Responses: Reporting: On occasion.

Total Burden Hours: 800.

Rural Housing Service

Title: Rural Housing Demonstration Program—Section 502.

OMB Control Number: 0575-0114.

Summary of Collection: Section 506 of the Housing Act of 1949 as amended by Title V—Rural Housing of Housing and Urban-Rural Recovery Act of 1983 directs the Secretary to conduct research, technical studies and demonstrations in order to improve the architectural designs, cost effectiveness and utility of housing units. The amendment allows the Secretary to permit housing demonstrations which do not meet existing published standards, rules, regulations or policies, if the Secretary finds that in doing so, the health and safety of the population is not adversely affected. The Rural Housing Service (RHS) will collect information from applicants seeking an innovation housing unit award.

Need and Use of the Information: RHS will collect information from the proposer to evaluate the strengths and weaknesses to which the proposal concept possesses or lacks the attributes set forth in the proposed content and evaluation criteria. RHS will use the collected information to select the most feasible proposals that will enhance the Agency's chances in accomplishing the demonstration objective. The information will be utilized to sustain and modify RHS's current policies pertaining to the construction of modest housing.

Description of Respondents: Business or other for-profit; Not-for-profit institutions; Individuals or households; State, Local or Tribal Government.

Number of Respondents: 25.

Frequency of Responses: Recordkeeping; Reporting: On occasion.

Total Burden Hours: 2,000.

Rural Housing Service

Title: 7 CFR 1951-C, “Offset of Federal Payments to USDA Borrowers’.

OMB Control Number: 0575-0119.

Summary of Collection: The Federal Claims Collection Act of 1966 as amended by the Debt Collection Act of 1982, the Deficit Reduction Act of 1984 and the Debt Collection Improvement Act of 1996 provides for administrative, salary, and Internal Revenue Service offsets by Government agencies to collect delinquent debts. The regulation identifies documents submitted by borrowers requesting a different repayment agreement when they are delinquent on their debt to the Federal Government. This regulation does not require a response, if the borrower is willing to allow his program payment to be made directly to the agency.

Need and Use of the Information: The information will be utilized by agency personnel and is essential in determining if a different repayment agreement can be accepted. A delinquent borrower is required to pay current or submit documentation ranging from a written agreement, pay current from liquid assets or submit a Farm and Home Plan to show repayment to avoid the offset.

Description of Respondents: Not for profit institutions; State, Local, or Tribal Government.

Number of Respondents: 2,000.

Frequency of Responses: Recordkeeping; Reporting: On occasion.

Total Burden Hours: 1,331.

Rural Housing Service

Title: 7 CFR 1942-C, “Fire and Rescue Loans”.

Summary of Collection: The Rural Housing Service (RHS) is authorized by section 306 of the Consolidated Farm and Rural Development Act (7 U.S.C. 1926) to make loans to public agencies, nonprofit corporations, and Indian tribes for the development of essential community facilities primarily servicing rural residents. The primary regulation for administering this Community Facility Program is 7 CFR 1942-A (0575-0015). The information must be collected to determine eligibility, analyze financial feasibility, take security, monitor the use of loan funds, and monitor the financial condition of borrowers, and otherwise assisting borrowers.

Need and Use of the Information: Rural Development field offices will collect the information from applicant/borrowers and consultant through a variety of forms and other existing documents. This information will be used to determine applicant/borrower eligibility, project feasibility, and ensure borrowers operate on a sound basis and use loan funds for authorized purpose.

Description of Respondents: Not-for-profit institutions; State, Local or Tribal Government.

Number of Respondents: 1,211.

Frequency of Responses: Reporting: On occasion; Quarterly; Annually.

Total Burden Hours: 6,482.

Animal and Plant Health Inspection Service

Title: West Indian Fruit Fly.

OMB Control Number: 0579-0170.

Summary of Collection: The United States Department of Agriculture is responsible for preventing plant pests and noxious weeds from entering the United States, preventing the spread of pests and weeds not widely distributed in the United States and eradicating those imported pests and weeds when eradication is feasible. Section 414 of the Plant Protection Act (PPA) (7 U.S.C. 7701-7772) provides that the Secretary of Agriculture may, under certain conditions, hold, seize, quarantine, treat, apply other remedial measures to destroy or otherwise dispose of any plant, plant pest, plant product, article, or means of conveyance that is moving, or has moved into or through the United States or interstate if the Secretary has reason to believe that the article is a plant pest or is infested with a plant pest at the time of move. The Animal and Plant Health Inspection Service (APHIS) published an interim rule to prevent the spread of the West Indian Fruit fly to non-infested areas of the United States. The rule quarantined a part of Cameron County, TX, because of the West Indian Fruit Fly and restricted the interstate movement of regulated articles from the quarantined area.

Need and Use of the Information: APHIS will collect information to certify bulk shipments of regulated articles. If the information were not collected APHIS would be unable to provide for the interstate movement of certain articles from the quarantined area.

Description of Respondents: Business or other for-profit.

Number of Respondents: 37.

Frequency of Responses: Reporting: On occasion.

Total Burden Hours: 37.

Grain Inspection, Packers & Stockyards Administration

Title: “Clear Title” Regulations to Implement Section 1324 of the Food Security Act of 1985.

OMB Control Number: 0580-0016.

Summary of Collection: The Food Security Act of 1985 permits the state to establish “central filing systems” for the purpose of pre-notifying buyers, commission merchants, and selling agents of security interests against “farm products”. These central filing systems notify buyers of farm products or any mortgages or liens on the products. There are 19 states that currently have certified central filing systems.

Need and Use of the Information: A state submits information one time to Grain Inspection, Packers and Stockyards Administration (GIPSA) when applying for certification. GIPSA reviews the information submitted by the states to certify that those central filing systems meet the criteria set forth in section 1324 of the Food Security Act of 1985.

Description of Respondents: Business or other for-profit.

Number of Respondents: 1.

Frequency of Responses: Reporting: On occasion.

Total Burden Hours: 12.

Agricultural Marketing Service

Title: Raisins Produced from Grapes Grown In California.

OMB Control Number: 0581-0196.

Summary of Collection: Market Order No. 989 covering raisins produced from grapes grown in California emanates from enabling legislation (The Agricultural Marketing Agreement Act of 1937). This legislation was designed to permit regulation of certain agricultural commodities for the purpose of providing orderly marketing conditions in interstate commerce and improving returns to producers. The Order authorizes the issuance of grade and condition standards, inspection requirements, and volume regulations through a producer reserve pool. The Order is administered by a 47 member Raisin Administrative Committee, comprised of 35 producers, 10 handlers, one member representing the cooperative bargaining association(s) and one member representing the public administers the order. The new changes in the legislation require handlers to report to the committee information on acquisitions, shipments, and inventories of organic raisins.

Need and Use of the Information: The information collected is used to evaluate whether organic raisins should be subject to the order's volume regulation requirements. Collecting the information less frequently would eliminate data needed to keep the California raisin industry and the Secretary abreast of changes at the state and local levels.

Description of Respondents: Farms.

Number of Respondents: 20.

Frequency of Responses: Reporting: Weekly; Monthly; Annually.

Total Burden Hours: 2,000.

Food Safety and Inspection Service

Title: Marking, Labeling, and Packaging Material.

OMB Control Number: 0583-0092.

Summary of Collection: The Food Safety and Inspection Service (FSIS) has been delegated the authority to exercise the functions of the Secretary as provided in the Federal Meat Inspection Act (FMIA) (21 U.S.C. 601 et seq.) and the Poultry Products Inspection Act (PPIA) (21 U.S.C. 451 et seq.). These statutes mandate that FSIS protect the public by ensuring that meat and poultry products are safe, wholesome, unadulterated, and properly labeled and packaged. To control the manufacture of marking devices bearing official marks, FSIS requires that official meat and poultry establishment and manufacturers of such marking devices complete FSIS form 7234-1, Application for Approval of Labels, Marking or Device.

Need and Use of the Information: FSIS will collect information to ensure that meat and poultry product are accurately labeled. FSIS will also collect the following information: Establishment number, company name and address, name of product, action requested of FSIS, size of label, product formulation, special processing procedures, and a signature on the form.

Description of Respondents: Business or other for-profit.

Number of Respondents: 34,552.

Frequency of Responses: Recordkeeping; Reporting: On occasion.

Total Burden Hours: 119,005.

Food and Nutrition Service

Title: Requisition for Food Coupon Books.

OMB Control Number: 0584-0022.

Summary of Collection: The Food Stamp Act of 1977 requires the Secretary of Agriculture and the Food and Nutrition Service (FNS) to prescribe appropriate procedures for the delivery of food coupon books to coupon issuers and for the subsequent controls to be placed over such coupons by coupon issuers in order to ensure adequate accountability. The regulations at 7 CFR 274.7 and 274.8, require State agencies to establish coupon inventory management systems which include proper control and security procedures, procedures for ordering coupon books and shipping books within the State. These procedures also provide an orderly mechanism for States to order new supplies of food coupon books. FNS will collect information using Form FNS-260, Requisition of Food Coupon Books, to determine what States need additional coupon books and the details of their order.

Need and Use of the Information: FNS collects information to determine how many coupon books to order, what denominations and when to order more coupon books in order to provide State agencies with inventories that will be adequate to issue program benefits to households on a monthly basis.

Description of Respondents: State, Local, or Tribal Government.

Number of Respondents: 221.

Frequency of Responses: Recordkeeping; Reporting: On occasion.

Total Burden Hours: 663.

Food and Nutrition Service

Title: Food Coupon Deposit Document.

OMB Control Number: 0584-0314.

Summary of Collection: The Food Stamp Program is designed to promote the general welfare and safeguard the health and well being of the Nation's population by raising levels of nutrition among low-income households. Section 2 of the Food Stamp Act of 1977, as amended (7 U.S.C. 2011 et seq.) (the Act) states in part, that “* * * a Food Stamp Program is herein authorized which will permit low-income households to obtain a more nutritious diet through normal channels of trade by increasing food purchasing power for all eligible households who apply for participation.” Section 10 of the Food Stamp Act requires the U.S. Department of Agriculture to issue regulations that provide for the redemption, through financial institutions, of food coupons accepted by retail food stores from program participants. The Food Coupon Deposit Document (FCDD), which is currently used in the Food Stamp Program by banks and financial institutions to redeem food stamp benefits from authorized retailers and to monitor the authorization of firms for compliance and continued eligibility in the Food Stamp Program.

Need and Use of the Information: The Food and Nutrition Service (FNS) will collect information to track deposits of food coupons. All financial institutions use the FCDD when they deposit food coupons at Federal Reserve Banks. The information to be collected is the name, address, and unique check routing code of each financial institution that deposits food coupons on the face of every FCDD. Without the information there is no way of tracking deposits of food coupons.

Descriptions of Respondents: Business or other for-profit.

Number of Respondents: 10,000.

Frequency of Responses: Recordkeeping; Reporting: On occasion.

Total Burden Hours: 1,327.

Food and Nutrition Service

Title: The Integrity Profile.

OMB Control Number: 0584-0401.

Summary of Collection: The Food and Nutrition Service (FNS) administers the Women, Infant, and Children (WIC) Program on behalf of the Secretary of Agriculture. In recent years, the Office of Inspector General (OIG), has performed audits of FNS' vendor management and recommended that FNS (1) develop criteria to identify vendors suspected of abuse (high-risk vendors) and (2) requires State agencies to perform a minimum number of compliance investigations in order to provide sufficient evidence on whether vendors are overcharging the Program or violating other regulatory requirements. Accordingly, FNS requires State agencies to report annually on their vendor monitoring efforts. The data collected from the States serves as a management tool to provide Congress, OIG senior program managers, as well as the general public, assurances that program funds are being spent appropriately and that every reasonable effort is being made to prevent, detect and eliminate fraud, waste and abuse.

Need and Use of the Information: The information collected is analyzed and a report is prepared by FNS annually that (1) assesses State agency progress in eliminating abusive vendors, (2) assesses the level of activity that is being directed in ensuring program integrity, and (3) analyzes trends over a 5-year period. The information is used at the national level in formulating program policy and regulations. At the FNS regional office level, the data is reviewed to identify possible vendor management deficiencies so that technical assistance can be provided to States, as needed. At the State level, the information is used to provide assurances to the Governor's office, and other interested parties, that WIC issues are being addressed.

Description of Respondents: State, Local or Tribal Government.

Number of Respondents: 88.

Frequency of Responses: Reporting: Annually.

Total Burden Hours: 1,778.

Food and Nutrition Service

Title: Food Stamp Program: State Agency Options.

OMB Control Number: 0584-0496.

Summary of Collection: The Food Stamp Act of 1977, as amended by the Personal Responsibility and Work Opportunity Reconciliation Act (PRWORA) establishes a program whereby needy households apply for and receive food stamp benefits. It specifies national eligibility standards but allows State agencies certain options in administering the program. These options relate to establishing a homeless shelter deduction and periodical reviews; updating standard utility allowances to be used in excess shelter cost computation; and establishing a methodology for offsetting costs of producing self-employment income. The Food and Nutrition Service (FNS) will collect information from state agencies on the methods used to calculate these deductions and allowances.

Need and Use of the Information: FNS will collect information from State agencies on how the various Food Stamp Program implementation options will be determined. The information collected will be used by FNS to establish quality control reviews, standards and self-employment costs.

Description of Respondents: State, Local or Tribal Government.

Number of Respondents: 53.

Frequency of Responses: Recordkeeping; Reporting: On occasion.

Total Burden Hours: 256.

Food and Nutrition Service

Title: Food Stamp Program: Grants to Improve Food Stamp Program Access.

OMB Control Number: 0584-0506.

Summary of Collection: In January 2001, the Food and Nutrition Service (FNS) awarded grants of up to 300,000 to 14 non-food stamp governmental authorities, nonprofit local organizations, institutions of higher learning, foundations and other non-profit organizations. To receive a grant, each interested competitor had to provide a proposal to USDA on the projects to be undertaken. Each proposal was competitively ranked and the top ranked proposals were awarded grants. USDA is seeking information from the grantees on the outcome of the projects funded, such as a description of the projects, funding levels, staffing successes, failures, and lesson learned from the projects.

Need and Use of the Information: FNS will collect information in three phases: the application process; ongoing quarterly reports; and a final report. FNS will use the information from the grantees on the outcome of the projects funded to consolidate a report of success stories, and lessons learned from the projects. The information will be used to inform FNS about useful strategies that promote access and are successful in increasing participants of eligible persons in the Food Stamp Program.

Description of Respondents: State, Local or Tribal Government.

Number of Respondents: 250.

Frequency of Responses: Reporting: Quarterly; Annually.

Total Burden Hours: 21,008.

Forest Service

Title: Health Screen Questionnaire.

OMB Control Number: 0596-NEW.

Summary of Collection: The Protection Act of 1922 (16 U.S.C. 594) authorizes the Forest Service to fight fires on National Forest System lands. Individuals must complete the Health Screening Questionnaire (HSQ) when seeking employment as a new firefighter with the Forest Service or recertification as a Forest Service firefighter. Potential applicants are to complete forms FS-5100-30 and FS-5100-31, which are necessary to obtain their health screening information.

Need and Use of the Information: FS will collect information to determine whether an individual being considered for a position in Wildland Firefighting can carry out those duties in a manner that will not place the candidate unduly at risk due to inadequate physical fitness and health. If the information is not collected, the Government's liability risk is high, special needs of one individual may not be known, or the screening of an applicant's physical suitability would be greatly inhibited.

Description of Respondents: Individuals or households; Federal Government.

Number of Respondents: 15,000.

Frequency of Responses: Reporting: Annually.

Total Burden Hours: 1,250.

Agricultural Marketing Service

Title: Customer Service Survey for USDA—Donated Food Products.

OMB Control Number: 0581-0182.

Summary of Collection: Each year the Agricultural Marketing Service (AMS) procures about $700 million dollars of poultry, livestock, fruit, and vegetable products for the school lunch and other domestic feeding programs under authority of 7 CFR 250, Regulations for the Donation of Food for Use in the United States, its Territories and possessions and areas under its jurisdiction. To maintain and improve the quality of these products, AMS has sought to make this process more customer-driven and therefore is seeking opinions from the users of these products. AMS will use AMS-11, “Customer Opinion Postcard,” to collect information. Customers that use USDA-procured commodities to prepare and serve meals, retrieve these cards from the boxes and use them to rate their perception of product flavor, texture, and appearance as well as overall satisfaction.

Need and Use of the Information: AMS will collect information on the product type, production lot, and identify the location and type of facility, which the product was served. USDA program managers will use survey responses to maintain and improve product quality through the revision of USDA commodity specifications and follow-up action with producers of designated production lots.

Description of Respondents: State, Local or Tribal Government; Not-for-profit institutions.

Number of Respondents: 8,400.

Frequency of Responses: Reporting: On occasion.

Total Burden Hours: 700.

Animal and Plant Health Inspection Service

Title: West Nile Virus Surveillance Project.

OMB Control Number: 0579-0162.

Summary of Collection: The mission of the Animal and Plant Health Inspection Service (APHIS), Veterinary Services is to protect and improve the health, quality and marketability of the Nation's livestock by preventing, controlling, and monitoring animal disease. Veterinary Services' Emergency Programs is charged with coordinating USDA's role and responsibilities in planning for and responding to emerging or exotic animal diseases. West Nile Virus (WNV) is a type of virus that can cause encephalitis, or inflammation of the brain. WNV was first identified in a limited area of the northeastern United States in wild birds, mosquitoes, humans, and horses in 1999. The scientific literature about WNV indicates that transmission is primarily through a mosquito-bird cycle, with occasional incursions into other vertebrates as terminal host only.

Need and Use of the Information: APHIS will collect data and blood samples to determine equine or premises risk factors for WNV infection. The information will be use to protect human health, livestock producers and veterinarians will use the information to protect their herds and flocks from infection and subsequent production losses.

Description of Respondents: Individuals or households; Farms; Business or other for-profit.

Number of Respondents: 420.

Frequency of Responses: Reporting: On occasion.

Total Burden Hours: 945.

Sondra A. Blakey,
Departmental Information Clearance Officer.

[FR Doc. 01-22626 Filed 9-7-01; 8:45 am]

BILLING CODE 3410-01-M